NATIONAL TRANSPORTATION SAFETY BOARD

Public Availability of FY 2012 Service Contract Inventory Analysis, FY 2013 Service Contract Inventory, and FY 2013 Service Contract Inventory Planned Analysis for the National Transportation Safety Board

AGENCY: National Transportation Safety Board.

ACTION: Notice of Public Availability of FY 2012 Service Contract Inventory Analysis, FY 2013 Service Contract Inventory, and FY 2013 Service Contract Inventory Planned Analysis.

SUMMARY: In accordance with Section 743 of Division C of the Consolidated Appropriations Act of 2010 (Pub. L. 111-117), the National Transportation Safety Board is publishing this notice to advise the public of the availability of the FY 2012 Service Contract Inventory Analysis, the FY 2013 Service Contract Inventory, and the FY 2013 Service Contract Inventory Planned Analysis. The FY 2012 inventory analysis provides information on specific service contract actions that were analyzed as part of the FY 2012 inventory. The FY 2013 inventory provides information on service contract actions over $25,000 that were made in FY 2013. The inventory information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. The FY 2013 inventory planned analysis provides information on which functional areas will be reviewed by the agency. The National Transportation Safety Board has posted its FY 2013 inventory, FY 2013 planned analysis, and FY 2012 inventory analysis at the following link: http://www.ntsb.gov/about/open.html

FOR FURTHER INFORMATION CONTACT: Questions regarding the service contract inventory should be directed to Christopher Blumberg, Deputy Director, Office of Administration, NTSB at 202-314-6102 or christopher.blumbeg@ntsb.gov.

Dated: October 21, 2014.
Candi R. Bing,
Federal Register Liaison.

[FR Doc. 2014-25407 Filed 10-24-14; 8:45 am]

BILLING CODE P